DEPARTMENT OF HEALTH AND HUMAN SERVICES

Centers for Disease Control and Prevention

[30Day-05-0429X]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 371-5983 or send an e-mail to omb@cdc.gov. Send written comments to CDC Desk Officer, Human Resources and Housing Branch, New Executive Office Building, Room 10235, Washington, DC 20503 or by fax to (202) 395-6974. Written comments should be received within 30 days of this notice.

Proposed Project

A Survey of the Knowledge, Attitudes, and Practice of Medical and Allied Health Professionals Regarding Fetal Alcohol Exposure—New—National Center on Birth Defects and Developmental Disabilities (NCBDDD), Centers for Disease Control and Prevention (CDC).

Background and Brief Description: Maternal prenatal alcohol use is one of the leading preventable causes of birth defects and developmental disabilities. Children exposed to alcohol during fetal development can suffer a wide array of disorders, from subtle changes in I.Q. and behaviors to profound mental retardation. One of the most severe results of drinking during pregnancy is Fetal Alcohol Syndrome (FAS). FAS is a condition that involves disorders of the brain, growth retardation, and facial malformations.

Physicians and other health practitioners play a vital role in diagnosing FAS and in screening women of childbearing age for alcohol consumption and drinking during pregnancy. In Diekman's, et al. 2000, study of obstetricians and gynecologists, only one fifth of doctors surveyed reported abstinence to be the safest way to avoid the adverse outcomes associated with fetal alcohol exposure. Importantly 13% of doctors surveyed were unsure of thresholds of alcohol consumption associated with adverse outcomes.

This survey will be used to gather information on the knowledge, attitudes, and practice about FAS and alcohol consumption during pregnancy from members of professional practitioner organizations. Data will be collected from pediatricians, obstetricians and gynecologists, psychologists, psychiatrists, family physicians, and other allied health professionals. This information will be used to identify gaps in knowledge regarding the screening, diagnosis, and treatment of FAS. The results of this survey will be used to develop model FAS curricula that will be disseminated among medical and allied health students and professionals.

The FAS curricula will be used in a variety of formats including computer interactive learning applications, workshops, conferences, Continuing Medical Education (CME) credit courses, medical and allied health school clerkships. There are no costs to respondents other than their time. The total burden hours per year are 2,000 hours.

Estimated Annual Burden Hours:

Respondents | Number of respondents | Number of responses per respondent | Average burden per response (in hrs)
Pediatricians | 800 | 1 | 30/60
Obstetricians/Gynecologists | 800 | 1 | 30/60
Psychologists/Psychiatrists | 800 | 1 | 30/60
Allied Health Professionals | 800 | 1 | 30/60
Family Physicians | 800 | 1 | 30/60
Total |  |  |

Dated: May 31, 2005.
Joan F. Karr,
Acting Reports Clearance Officer, Centers for Disease Control and Prevention.

[FR Doc. 05-11367 Filed 6-7-05; 8:45 am]

BILLING CODE 4163-18-P